ENVIRONMENTAL PROTECTION AGENCY

[ER-FRL-9014-6]

Environmental Impact Statements; Notice of Availability

Responsible Agency: Office of Federal Activities, General Information (202) 564-7146 or http://www.epa.gov/compliance/nepa/.

Weekly Receipt of Environmental Impact Statements

Filed 04/14/2014 Through 04/18/2014

Pursuant to 40 CFR 1506.9.

Notice: Section 309(a) of the Clean Air Act requires that EPA make public its comments on EISs issued by other Federal agencies. EPA's comment letters on EISs are available at: http://www.epa.gov/compliance/nepa/eisdata.html.

EIS No. 20140125, Final EIS, FHWA, CA, California High-Speed Train (HST): Fresno to Bakersfield Section High-Speed Train, Review Period Ends: 05/27/2014, Contact: Stephanie Perez 202-493-0388.

EIS No. 20140126, Final Supplement, USN, 00, Introduction of the P-8A Multi-Mission Maritime Aircraft into the U.S. Navy Fleet, Review Period Ends: 05/27/2014, Contact: Cory Zahm 757-322-4347.

EIS No. 20140127, Final EIS, NPS, CA, Golden Gate National Recreation Area and Muir Woods National Monument Final General Management Plan/Environmental Impact Statement, Review Period Ends: 05/27/2014, Contact: Tom Gibney 303-969-2479.

EIS No. 20140128, Draft EIS, USFS, CA, Tule River Reservation Protection Project, Comment Period Ends: 06/09/2014, Contact: Richard Stevens 559-539-2607.

EIS No. 20140129, Final EIS, USACE, CO, Moffat Collection System Project, Review Period Ends: 06/09/2014, Contact: Rena Brand 303-979-4120.

Amended Notices

EIS No. 20140065, Draft EIS, USFS, OR, Proposed Revised Land Management Plans for the Malheur, Umatilla, and Wallowa-Whitman National Forests, Comment Period Ends: 08/15/2014, Contact: Sabrina Stadler 541-523-1264.

Revision to the FR Notice Published 03/14/2014; Extending the Comment Period from 06/16/2014 to 08/15/2014.

Dated: April 22, 2014.
Cliff Rader,
Director, NEPA Compliance Division, Office of Federal Activities.

[FR Doc. 2014-09448 Filed 4-24-14; 8:45 am]

BILLING CODE 6560-50-P